ENVIRONMENTAL PROTECTION AGENCY

40 CFR Part 180

[EPA-HQ-OPP-2006-0175; FRL-8111-3]

Withdrawal of Direct Final Rule

AGENCY: Environmental Protection Agency (EPA).

ACTION: Direct final rule.

SUMMARY: Because EPA has received adverse comments, the Agency is withdrawing the direct final rule excepting from the definitions of “pesticide chemical” and “pesticide chemical residue” under section 201(q) of the Federal Food, Drug and Cosmetic Act (FFDCA) food packaging (e.g., paper and paperboard, coatings, adhesives, and polymers) that is treated with a pesticide. The rule was published on December 6, 2006 (71 FR 70667) (FRL-8084-2). We stated in that direct final rule that if EPA received adverse comment by January 5, 2007, the Agency would publish a timely withdrawal in the Federal Register. We subsequently received adverse comment on that direct final rule and are therefore withdrawing the rule. EPA may issue a notice of proposed rulemaking in a future edition of the Federal Register to initiate action to repromulgate the rule provisions that are being withdrawn today. In any such action, EPA would address the adverse comments it received on the direct final rule.

DATES: The direct final rule published at 71 FR 70667, December 6, 2006, is withdrawn, effective January 25, 2007.

FOR FURTHER INFORMATION CONTACT: Mari L. Duggard, Biopesticides and Pollution Prevention Division (7511P), Office of Pesticide Programs, Environmental Protection Agency, 1200 Pennsylvania Ave., N.W.,Washington, DC 20460-0001; telephone number: (703) 308-0028; fax number: (703) 308-7026; e-mail address:duggard.mari@epa.gov.

SUPPLEMENTARY INFORMATION: EPA issued a direct final rule in the Federal Register of December 6, 2006 excepting from the definitions of “pesticide chemical” and “pesticide chemical residue” under section 201(q) of the FFDCA, food packaging (e.g., paper and paperboard, coatings, adhesives, and polymers) that is treated with a pesticide. We received adverse comment on that direct final rule and are therefore withdrawing the rule. EPA may issue a notice of proposed rulemaking in a future edition of the Federal Register to initiate action to repromulgate the rule provisions that are being withdrawn today. In any such action, EPA would address the adverse comments it received on the direct final rule.

Accordingly, the amendment to 40 CFR 180.4 published in the Federal Register on December 6, 2006 (71 FR 70667) is withdrawn effective January 25, 2007.

The Adverse comment is publicly available available either in the electronic docket at http://www.regulations.gov, or, if only available in hard copy, at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805.

List of Subjects in 40 CFR Part 180

Environmental protection, Administrative practice and procedure, Agricultural commodities, Pesticides and pests, Reporting and record-keeping requirements.

Dated: January 17, 2007.
Janet L. Andersen,
Division Director, Biopesticides and Pollution Prevention Division, Office of Pesticide Programs.

[FR Doc. 07-485 Filed 1-31-07; 12:19 pm]

BILLING CODE 6560-50-S